DEPARTMENT OF DEFENSE

Office of the Secretary

Renewal of Department of Defense Federal Advisory Committees

AGENCY: Department of Defense.

ACTION: Renewal of Federal Advisory Committee.

SUMMARY: Under the provisions of the Federal Advisory Committee Act of 1972, (5 U.S.C. Appendix, as amended), the Government in the Sunshine Act of 1976(5 U.S.C. 552b, as amended), and 41 CFR 102-3.65, the Department of Defense gives notice that it is renewing the charter for the National Security Education Board (hereafter referred to as the Board).

The Board is a non-discretionary federal advisory committee established by the Secretary of Defense to provide the Department of Defense independent advice and recommendations on developing the national capacity to educate U.S. citizens to understand foreign cultures, strengthen U.S. economic competitiveness, and enhance international cooperation and security. The Board, in accomplishing its mission: (a) Develop criteria for awarding scholarships, fellowships, and grants, including an order of priority in such awards that favors individuals expressing an interest in national security issues or pursuing a career in a national security position; (b) provide for wide dissemination of information regarding the activities assisted under national security issues; and (c) establish qualifications for students desiring scholarships or fellowships, and institutions of higher education desiring grants.

The Board shall be composed of not more than 13 members, who shall include members that represent (a) the Secretary of Defense or designee, who shall serve as the Chairperson of the Board; (b) the Secretary of Education or designee; (c) the Secretary of State or designee; (d) the Secretary of Commerce or designee; (e) the Director of Central Intelligence or designee; (f) the Chairperson of the National Endowment for the Humanities; and (g) six people appointed by the President, by and with the advice and consent of the Senate, who shall be experts in the fields of international, language, area and counter proliferation studies education and who may not be full-time officers or employees of the Federal Government. Board members appointed by the President shall be appointed for a period specified by the President at the time of their appointment, but not to exceed four years. In addition, the Secretary of Defense or designee may invite other distinguished Government officers to serve as non-voting observers of the Board, and appoint consultants, with special expertise, to assist the Board on an ad hoc basis. Board members, who are not full-time or permanent part-time federal officers or employees, shall be appointed as experts and consultants under the authority of 5 U.S.C. 3109. Board members shall, with the exception of travel and per diem for official travel, serve without compensation, unless otherwise authorized.

The Board shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Board, and shall report all their recommendations and advice to the Board for full deliberation and discussion. Subcommittees or workgroups have no authority to make decisions on behalf of the chartered Board, nor can they report directly to the Department of Defense or any federal officers or employees who are not Board members.

FOR FURTHER INFORMATION CONTACT: Jim Freeman, Deputy Committee Management Officer for the Department of Defense, 703-601-6128.

SUPPLEMENTARY INFORMATION: The Board shall meet at the call of the Board's Designated Federal Officer, in consultation with the Board's chairperson. The Designated Federal Officer, pursuant to DoD policy, shall be a full-time or permanent part-time DoD employee, and shall be appointed in accordance with established DoD policies and procedures. The Designated Federal Officer or duly appointed Alternate Designated Federal Officer shall attend all Board meetings and subcommittee meetings.

Pursuant to 41 CFR 102-3.105(j) and 102-3.140, the public or interested organizations may submit written statements to the National Security Education Board membership about the Board's mission and functions. Written statements may be submitted at any time or in response to the stated agenda of a planned meeting of the National Security Education Board.

All written statements shall be submitted to the Designated Federal Officer for the National Security Education Board, and this individual will ensure that the written statements are provided to the membership for their consideration. Contact information for the National Security Education Board's Designated Federal Officer can be obtained from the GSA's FACA Database— https://www.fido.gov/facadatabase/public.asp.

The Designated Federal Officer, pursuant to 41 CFR 102-3.150, will announce planned meetings of the National Security Education Board. The Designated Federal Officer, at that time, may provide additional guidance on the submission of written statements that are in response to the stated agenda for the planned meeting in question.

Dated: June 18, 2008.
Patricia L. Toppings,
OSD Federal Register Liaison Officer, Department of Defense.

[FR Doc. 08-1379 Filed 6-19-08; 11:50 am]

BILLING CODE 5001-06-P